DEPARTMENT OF THE INTERIOR

National Park Service

[NPS-WASO-NAGPRA-NPS0026447; PPWOCRADN0-PCU00RP14.R50000]

Notice of Inventory Completion: Albuquerque Museum, Albuquerque, NM; Correction

AGENCY: National Park Service, Interior.

ACTION: Notice; correction.

SUMMARY: The Albuquerque Museum has corrected a Notice of Inventory Completion published in the Federal Register on August 8, 2018. This notice corrects a paragraph that contains an error.

ADDRESSES: Deb Slaney, History Curator, Albuquerque Museum, 2000 Mountain Road NW, Albuquerque, NM 87104 telephone (505) 243-7255, email dslaney@cabq.gov.

SUPPLEMENTARY INFORMATION: This notice is published as part of the National Park Service's administrative responsibilities under NAGPRA, 25 U.S.C. 3003(d)(3). The determinations in this notice are the sole responsibility of the museum, institution, or Federal agency that has control of the Native American human remains. The National Park Service is not responsible for the determinations in this notice.

This notice corrects a Notice of Inventory Completion published in the Federal Register (83 FR 14490-14492, April 4, 2018). A paragraph summarizing the determinations made by the Albuquerque Museum cited an incorrect reference in the original notice.

Correction

In the Federal Register (83 FR 39122, August 8, 2018), column 3, paragraph 2, sentence 1 is corrected by substituting the following sentence:

At a date prior to 1974, human remains representing, at minimum, one individual were removed from an unknown location in the vicinity of Jemez Pueblo, Sandoval County, NM.

Dated: September 6, 2018.
Melanie O'Brien,
Manager, National NAGPRA Program.

[FR Doc. 2018-21756 Filed 10-4-18; 8:45 am]

BILLING CODE 4312-52-P